FEDERAL ELECTION COMMISSION

Sunshine Act Meeting

Previously Announced Date & Time: Thursday, April 18, 2002, 10 a.m. meeting open to the public:

The following item was withdrawn from the agenda: NPRM on 2002 Modifications to the Administrative Fines Program.

Previously Announced Date & Time: Tuesday, April 23, 2002, 10 A.M. meeting closed to the Public. This meeting was cancelled.

Date & Time: Tuesday, May 7, 2002 at 10 a.m.

Place: 999 E Street, NW., Washington, DC.

Status: This meeting will be closed to the public.

Items To Be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date & Time: Thursday, May 9, 2002 at 10 a.m.

Place: 999 E Street, NW., Washington, DC (ninth floor).

Status: This meeting will be open to the public.

Items To Be Discussed: Correction and Approval of Minutes.

Draft Advisory Opinion 2002-05: Ann Hutchinson, Mayor of Bettenford, Iowa, by Gregory S. Jager, City Attorney. 2002 Legislative Recommendations.

Notice of Proposed Rulemaking on Soft Money.

Administrative Matters.

Person to Contact for Information: Mr. Ron Harris, Press Officer, Telephone: (202) 694-1220.

Mary W. Dove,
Secretary of the Commission.

[FR Doc. 02-10990 Filed 4-30-02; 11:14 am]

BILLING CODE 6715-01-M